DEPARTMENT OF LABOR

Employment and Training Administration

[TA-W-54,413]

Summitomo Electric Wiring Systems, Inc., Scottsville Plant #2, Scottsville, KY; Notice of Termination of Investigation

Pursuant to section 221 of the Trade Act of 1974, an investigation was initiated on March 3, 2004, in response to a petition filed by a company official on behalf of workers at Sumitomo Electric Wiring Systems, Inc., Scottsville Plant #2, Scottsville, Kentucky.

The petitioner has requested that the petition be withdrawn. Consequently, the investigation has been terminated.

Signed in Washington, DC, this 26th day of March, 2004.
Richard Church,
Certifying Officer, Division of Trade Adjustment Assistance.

[FR Doc. 04-7746 Filed 4-5-04; 8:45 am]

BILLING CODE 4510-30-P